DEPARTMENT OF HEALTH AND HUMAN SERVICES

Agency for Toxic Substances and Disease Registry

[30-Day 14-14AEH]

Agency Forms Undergoing Paperwork Reduction Act Review

The Agency for Toxic Substances and Disease Registry (ATSDR) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Assessment of Chemical Exposures (ACE) Investigations—New—Agency for Toxic Substances and Disease Registry (ATSDR)

Background and Brief Description

The Agency for Toxic Substances and Disease Registry (ATSDR) is requesting a three-year generic clearance for the Assessment of Chemical Exposures (ACE) Investigations to assist state, regional, local, or tribal health departments after toxic substance spills or chemical incidents. ACE investigations are a component of the National Toxic Substance Incidents Program (NTSIP). The NTSIP was introduced in 2010 as a comprehensive agency approach to toxic substance incident surveillance, prevention, and response. This three-part program includes a proposal for state-based surveillance for toxic substance releases, a national database of toxic substance incidents combining data from many sources, and the ACE investigations.

The ACE Investigations focus on performing rapid epidemiological assessments to assist state, regional, local, or tribal health departments (the requesting agencies) to respond to or prepare for acute chemical releases. The main objectives for performing these rapid assessments are to:

1. Characterize exposure and acute health effects of respondents exposed to toxic substances from discrete, chemical releases and determine their health statuses;

2. identify needs (i.e. medical and basic) of those exposed during the releases to aid in planning interventions in the community;

3. assess the impact of the incidents on health services use and share lessons learned for use in hospital, local, and state planning for chemical incidents; and

4. identify cohorts that may be followed and assessed for persistent health effects resulting from acute releases.

Because each chemical incident is different, it is not possible to predict in advance exactly what type of and how many respondents will need to be consented and interviewed to effectively evaluate the incident. Respondents typically include, but are not limited to emergency responders such as police, fire, hazardous material technicians, emergency medical services, and personnel at hospitals where patients from the incident were treated. Incidents may occur at businesses or in the community setting; therefore, respondents may also include business owners, managers, workers, customers, community residents, pet owners, and those passing through the affected area.

Data will be collected by the multi-disciplinary ACE team consisting of staff from ATSDR, the Centers for Disease Control and Prevention (CDC), and the requesting agencies. ATSDR has developed a series of sample survey forms that can be quickly tailored in the field to collect data that will meet the goals of the investigation. They will be administered based on time permitted and urgency. For example, it is preferable to administer the general survey to as many respondents as possible. However, if there are time constraints, the shorter Rapid Response Registry form or the household survey may be administered instead. The individual surveys collect information about exposure, acute health effects, health services use, medical history, needs resulting from the incident, communication during the release, health impact on children and pets, and demographic data. Hospital personnel are asked about the surge, response and communication, decontamination, and lessons learned. Medical chart abstractions may also be done to collect more detailed patient information. Similarly, veterinary chart abstractions may be performed if data about the health effects experienced by pets is needed to supplement human data.

Depending on the situation, respondents may incur reporting burden during face-to-face interviews, telephone interviews, written surveys, mailed surveys, or on-line surveys. For ACE Investigations, respondents to surveys and interviews will incur reporting burden; the staff from state, local, or tribal health agencies, will incur recordkeeping burden if they work with ATSDR and CDC staff on medical and veterinary chart abstractions. In rare situations, an investigation might involve the collection and laboratory analysis of clinical specimens.

In the past, ACE investigations have been performed in response to requests for assistance from state, regional, local, or tribal health departments under OMB No. 0920-0008, which expired July 31, 2014. The number of participants surveyed ranged from 30-715, averaging about 250 participants per investigation. In the future, ATSDR anticipates up to four ACE investigations per year. Therefore, the total annualized estimated burden will be 589 hours per year.

Participation in ACE investigations is voluntary and there are no anticipated costs to respondents other than their time.

Estimated Annualized Burden Hours
Type of respondents | Form name | Number of respondents | Number of responses per respondent | Average burden per response (in hrs.)
Residents, first responders, business owners, employees, customers | General Survey | 800 | 1 | 30/60
| Rapid Response Registry Form | 50 | 1 | 7/60
Residents | Household Survey | 110 | 1 | 15/60
Hospital staff | Hospital Survey | 40 | 1 | 30/60
Staff from state, local, or tribal health agencies | Medical Chart Abstraction Form | 250 | 1 | 30/60
| Veterinary Chart Abstraction Form | 30 | 1 | 20/60

Leroy A. Richardson,
Chief, Information Collection Review Office, Office of Scientific Integrity, Office of the Associate Director for Science, Office of the Director, Centers for Disease Control and Prevention.

[FR Doc. 2014-22691 Filed 9-23-14; 8:45 am]

BILLING CODE 4163-18-P